DEPARTMENT OF HEALTH AND HUMAN SERVICES

Health Resources and Services Administration

Advisory Committee on Interdisciplinary, Community-Based Linkages; Notice of Meeting

In accordance with section 10(a)(2) of the Federal Advisory Committee Act (Pub. L. 92-463), notice is hereby given of the following meeting:

Name: Advisory Committee on Interdisciplinary, Community-Based Linkages (ACICBL).

Dates and Times: September 28, 2006, 1 to 5 p.m.; September 29, 2006, 1 to 5 p.m.

Place: Teleconference meeting.

Status: The meeting will be open to the public.

Purpose: The Committee will be focusing on interdisciplinary training and education, specifically examining evidence-based models/research as regards interdisciplinary training and community-based training programs. In addition, the Committee will be looking at the potential impact of interdisciplinary training programs on health service delivery networks including how such training programs address the needs of various underserved populations. The meeting will allow Committee members to discuss and finalize appropriate findings and recommendations to be included in an annual report to the Secretary and Congress regarding interdisciplinary and/or community-based training.

Agenda: The agenda includes an overview of the Committee's general business activities and minutes of the prior meeting. The Committee will review recommendations that are being developed following the testimony provided by experts on interdisciplinary training and/or community-based training during the Advisory Committee meeting held on July 24-25, 2006.

The recommendations discussed, when finalized, will be prepared as a report to the Secretary and the Congress.

Agenda items are subject to change as priorities indicate.

For Further Information Contact: Anyone requesting information regarding the Committee meeting should contact Lou Coccodrilli, Federal Official for the ACICBL, and Acting Director of the Division of State, Community & Public Health, Bureau of Health Professions, Health Resources and Services Administration, 5600 Fishers Lane, Rockville, Maryland 20857; Telephone (301) 443-6590. Vanessa Saldanha, ASPH Fellow, can also be contacted at vsaldanha@hrsa.gov or via telephone at (301) 443-6529.

Dated: August 29, 2006.
Cheryl R. Dammons,
Director, Division of Policy Review and Coordination.

[FR Doc. E6-14747 Filed 9-5-06; 8:45 am]

BILLING CODE 4165-15-P